ENVIRONMENTAL PROTECTION AGENCY

[FRL-6705-5]

Gulf of Mexico Program Focus Team Meeting

AGENCY: Environmental Protection Agency (EPA).

ACTION: Notice of meeting of the Gulf of Mexico Program (GMP) focus teams.

SUMMARY: Under the Federal Advisory Act, Public Law 92463, EPA gives notice of a comprehensive meeting of GMP Focus Teams (Public Health, Nutrient Enrichment, Habitat, and Nonindigenous Species).

DATES: The Comprehensive Meeting will be held on Tuesday, June 20, 2000, from 10 p.m. to 5 p.m. and on Wednesday, June 21, 2000, from 9 a.m. to 4 p.m.

ADDRESSES: The meeting will be held at the Hilton New Orleans Riverside, Poydras at the Mississippi River, New Orleans, LA (504) 561-0500.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Focus Team Development of FY2001 Performance Goal Recommendations and Supporting Strategies, Overview of FY2000 Workplan Process and Accomplishments, Briefing on FY2001 Workplan Schedule, and Review of Focus Team Roles and Responsibilities.

The meeting is open to the public.

Dated: May 17, 2000.
Gloria D. Car,
Designated Federal Officer.

[FR Doc. 00-13201 Filed 5-25-00; 8:45 am]

BILLING CODE 6560-50-P